DEPARTMENT OF AGRICULTURE

Forest Service

Lake Tahoe Basin Management Unit, California, Land Management Plan Revision

AGENCY: Lake Tahoe Basin Management Unit, Forest Service, USDA.

ACTION: Notice of objection filing period.

SUMMARY: Randy Moore, the Regional Forester for the Pacific Southwest Region of the Forest Service (Region 5) has made the Final Environmental Impact Statement and Draft Record of Decision for the Lake Tahoe Basin Management Unit (LTBMU) Land Management Plan Revision available for the 60-day pre-decisional objection filing period. A written notice of objection, including attachments, must be submitted (regular mail, fax, email, hand-delivery, express delivery, or messenger service) within 60 days after the date of publication of the legal notice in the Sacramento Bee, Sacramento, CA (36 CFR 219.56). The publication date of the legal notice in the newspaper of record (Sacramento Bee) is the exclusive means for calculating the time to file an objection (36 CFR 219.56(b)). An electronic scan of the notice with the publication date will also be posted to the Web site below. Those wishing to object should not rely upon dates or timeframe information provided by any other source.

DATES: Those wishing to object, must submit a written notice of objection, including attachments (regular mail, fax ((703) 235-0138), email, hand-delivery, express delivery, or messenger service) within 60 days after the date of publication of the legal notice in the Sacramento Bee, Sacramento, CA (36 CFR 219.56).

ADDRESSES: Submit written notice of objection to the Chief of the Forest Service, Tom Tidwell at the following addresses:

Hand Delivery

USDA Forest Service, EMC, Attn: Judicial & Administrative Reviews, RPC-6th floor, 1601 N. Kent Street, Arlington, VA 22209.

Postal Delivery

USDA Forest Service, EMC, Attn: Judicial & Administrative Review Group, 1400 Independence Ave. SW., Mailstop Code: 1104, Washington, DC 20250-1104.

Express Delivery

USDA Forest Service, EMC, Attn: Judicial & Administrative Review Group, 201 14th St. SW., Mailstop: 1104, Washington, DC 20250.

Submit electronic objections and other data to objections-chief@fs.fed.us. See SUPPLEMENTARY INFORMATION for file formats and other information about electronic filing.

FOR FURTHER INFORMATION CONTACT: Theresa Corless, Regional Appeals Coordinator—Pacific Southwest Region, at (707) 562-8768.

SUPPLEMENTARY INFORMATION: Randy Moore, the Regional Forester for the Pacific Southwest Region of the Forest Service (Region 5) has made the Final Environmental Impact Statement and Draft Record of Decision for the Lake Tahoe Basin Management Unit (LTBMU) Land Management Plan Revision available at the LTBMU Forest Supervisor's Office (South Lake Tahoe, CA). The Draft Record of Decision selects Alternative E. In Alternative E, the Forest Plan contains plan components to continue to restore forest composition and structure and reduce fuels in the wildland urban interface, to improve wildlife habitat, to restore stream channels and aquatic habitats in priority watersheds, and to provide a range of recreation opportunities with appropriate access across the landscape. The plan revision is available on a compact disk, in hardcopy, or on the forest's Web site (http://www.fs.usda.gov/goto/ltbmu/ForestPlanRevision).

Objection Opportunities

This plan revision is subject to objection under 36 CFR 219 Subpart B. A written notice of objection, including attachments, must be submitted (regular mail, fax ((703) 235-0138), email, hand-delivery, express delivery, or messenger service) within 60 days after the date of publication of the legal notice in the Sacramento Bee, Sacramento, CA (36 CFR 219.56). The written notice of objection must be submitted to the Chief of the Forest Service, Tom Tidwell, who is the Objection Reviewing Officer at the addresses listed above.

How To File an Objection

The business hours for those submitting hand-delivered objections are 8:00 a.m. to 4:30 p.m. (Eastern Time), Monday through Friday, excluding holidays. We will also accept electronically filed objections. Please send such objections to “objections-chief@fs.fed.us” (dashes, not underscores). Electronically mailed objections must be submitted in an email message, plain text (.txt), Word (.doc or .docx), Portable Document Format (.pdf), or Rich Text Format (.rtf) file format. For electronically mailed objections, the sender should normally receive an automated electronic acknowledgment from the agency as confirmation of receipt. If the sender does not receive an automated acknowledgment of the receipt of the objection, it is the sender's responsibility to ensure timely receipt by other means. The regulations prohibit extending the length of the objection filing period.

The publication date of the legal notice in the newspaper of record (Sacramento Bee) is the exclusive means for calculating the time to file an objection (36 CFR 219.56(b)). An electronic scan of the notice with the publication date will also be posted to the Web site above. Those wishing to object should not rely upon dates or timeframe information provided by any other source.

The objection process provides an opportunity for members of the public who have participated in opportunities for public participation provided throughout the planning process to have any unresolved concerns receive an independent review by the Forest Service prior to a final decision being made by the responsible official. Under 36 CFR 219.53(a), only those individuals or organizations who participated in the planning process through the submission of substantive formal comments specific to the proposed plan revision during any opportunity for public participation provided during the planning process may file an objection. A signature or other verification of authorship is required (a scanned signature when filing electronically is acceptable). In cases where no identifiable name is attached to an objection, a verification of identity will be requested to confirm objection eligibility. If the objection is supported by documents, with the exceptions listed in 36 CFR 219.54(b), all documents must be provided with the objection; a bibliography is not sufficient. Objections must meet content requirements of 36 CFR 219.54.

At a minimum, an objection must include the following (36 CFR 219.54(c)):

(1) The objector's name and address (36 CFR 219.62), along with a telephone number or email address if available;

(2) Signature or other verification of authorship upon request (a scanned signature for electronic mail may be filed with the objection);

(3) Identification of the lead objector, when multiple names are listed on an objection (36 CFR 219.62). Verification of the identity of the lead objector if requested;

(4) The name of the plan, plan amendment, or plan revision being objected to, and the name and title of the responsible official;

(5) A statement of the issues and/or the parts of the plan, plan amendment, or plan revision to which the objection applies;

(6) A concise statement explaining the objection and suggesting how the proposed plan decision may be improved. If applicable, the objector should identify how the objector believes that the plan, plan amendment, or plan revision is inconsistent with law, regulation, or policy; and

(7) A statement that demonstrates the link between prior substantive formal comments attributed to the objector and the content of the objection, unless the objection concerns an issue that arose after the opportunities for formal comment (36 CFR 219.53(a)).

All objections are open to public inspection and will be posted to the Forest Service Web site (http://www.fs.usda.gov/goto/ltbmu/ForestPlanRevision).

Dated: November 15, 2013.
Randy Moore,
Regional Forester, Forest Service, Pacific Southwest Region.

[FR Doc. 2013-27924 Filed 11-21-13; 8:45 am]

BILLING CODE 3410-11-M